POSTAL SERVICE

39 CFR Part 111

Loading Requirements for PVDS Mailings

AGENCY: Postal Service.

ACTION: Proposed rule; extension of comment period.

SUMMARY: The Postal Service published in the Federal Register (64 FR 72044-45) a proposed revision to the Domestic Mail Manual to require that if Periodicals mail is on the same vehicle as Standard Mail prepared for Plant Verified Drop Shipment (PVDS), then the Periodicals mail must be loaded toward the tail end of the vehicle so that, for each destination entry, Periodicals mail can be offloaded first. The Postal Service is extending the comment period for this proposed rule.

DATES: Comments must be received on or before March 15, 2000.

ADDRESSES: Written comments should be mailed or delivered to the Manager, Mail Preparation and Standards, U.S. Postal Service, 475 L'Enfant Plaza SW, Room 6800, Washington DC 20260-2405. Fax: (202) 268-4336. Copies of all written comments will be available for inspection and photocopying at USPS Headquarters Library, 475 L'Enfant Plaza SW, 11th Floor N, Washington DC 20260-1540 between 9 a.m. and 4 p.m., Monday through Friday.

FOR FURTHER INFORMATION CONTACT: Lynn Martin, (202) 268-6351 or Anne Emmerth, (202) 268-2363.

Stanley F. Mires,
Chief Counsel, Legislative.

[FR Doc. 00-3158 Filed 2-10-00; 8:45 am]

BILLING CODE 7710-12-P